DEPARTMENT OF COMMERCE

National Oceanic and Atmospheric Administration

[I.D. 080200C]

New England Fishery Management Council; Public Meeting

AGENCY: National Marine Fisheries Service (NMFS), National Oceanic and Atmospheric Administration (NOAA), Commerce.

ACTION: Notice of public meeting.

SUMMARY: The New England Fishery Management Council (Council) is scheduling a public meeting of the joint New England Fishery Management Council/Mid-Atlantic Fishery Management Council Monkfish Oversight Committee and Monkfish Industry Advisory Panels on Wednesday, August 30, 2000 to consider actions affecting New England and Mid-Atlantic fisheries in the exclusive economic zone (EEZ). Recommendations from the committee will be brought to the full Councils for formal consideration and action, if appropriate.

DATES: The meeting will be held on Wednesday, August 30, 2000, at 10 a.m.

ADDRESSES: The meeting will be held at the Radisson Airport Hotel Providence, 2081 Post Road Warwick, RI 02886; telephone: (401)739-3000.

FOR FURTHER INFORMATION CONTACT: Paul J. Howard, Executive Director, New England Fishery Management Council (978) 465-0492.

SUPPLEMENTARY INFORMATION: The committee will review the current status of the fishery as described in the recent 31st Stock Assessment Workshop Report and other available information, including landings data, survey indices and recommendations for updated biological reference points. The committee will identify issues and outline options for consideration in the annual plan adjustment, including options for separate management of inshore and offshore fisheries in the Southern Fishery Management Area (SFMA), options for fisheries in the deep-water canyons and for a Grand Banks fishery, and for the protection of spawning activity. The committee will also discuss the impact of sea turtle protection measures in the SFMA on the monkfish fishery. The committee will also discuss scheduling of upcoming meetings, including advisory panel meetings, to complete the annual plan adjustment framework.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: August 2, 2000.
Richard W. Surdi,
Acting Director, Office of Sustainable Fisheries, National Marine Fisheries Service.

[FR Doc. 00-19994 Filed 8-7-00; 8:45 am]

BILLING CODE 3510-22-F